FEDERAL MARITIME COMMISSION

Ocean Transportation Intermediary License Reissuance

Notice is hereby given that the following Ocean Transportation Intermediary license has been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date Reissued
861F | George J. Young & Co., 110 West Ocean Blvd., Suite 622, Long Beach, CA 90802 | November 1, 2001.

Sandra L. Kusumoto,
Director, Bureau of Consumer Complaints, and Licensing.

[FR Doc. 01-30179 Filed 12-5-01; 8:45 am]

BILLING CODE 6730-01-P